DEPARTMENT OF HOMELAND SECURITY

8 CFR Part 274a

[CIS No. 2441-08; Docket No. USCIS-2008-0001]

RIN 1615-AB69

Documents Acceptable for Employment Eligibility Verification; Correction

AGENCY: U.S. Citizenship and Immigration Services, DHS.

ACTION: Interim rule; Correction.

SUMMARY: With this amendment, the Department of Homeland Security (DHS) corrects two inadvertent errors that were made in the Employment Eligibility Verification interim rule published in the Federal Register on December 17, 2008, at 73 FR 76505.

DATES: Effective Date: Effective February 2, 2009.

FOR FURTHER INFORMATION CONTACT: Stephen McHale, Verification Division, U.S. Citizenship and Immigration Services, Department of Homeland Security, 470 L'Enfant Plaza East, SW., Suite 8001, Washington, DC 20529, telephone (888) 464-4218 or e-mail at Everify@dhs.gov.

SUPPLEMENTARY INFORMATION:

Need for Correction

On December 17, 2008, U.S. Citizenship and Immigration Services (USCIS) published an interim rule at 73 FR 76505 amending its regulations governing the types of acceptable identity and employment authorization documents and receipts that employees may present to their employers for completion of the Form I-9, Employment Eligibility Verification.

The rule inadvertently included extraneous language in two paragraphs at 8 CFR 274a.2(b)(1)(vi)(B)(1) and (2). These paragraphs describe a type of receipt that can be presented by lawful permanent residents to their employers in lieu of the Form I-551, Permanent Resident Card, for completion of the Form I-9.

As explained in the preamble on page 76507, column 3, in the first sentence under the paragraph heading, “Adding references to Form I-94A,” (see also the last sentence under the paragraph heading, “C. Revising References to Temporary I-551s”), the only change the rule was making to 8 CFR 274a.2(b)(1)(vi)(B) was to add references to the Form I-94A next to each reference to the Form I-94, Arrival-Departure Record. In error, the regulatory text amending 8 CFR 274a.2(b)(1)(vi)(B)(1) at 73 FR 76511 inadvertently included the extraneous language, “with an unexpired foreign passport” in the sentence, “Presents the arrival portion of Form I-94 or Form I-94A with an unexpired foreign passport containing an unexpired ‘Temporary I-551’ stamp and a photograph of the individual, which is designated for purposes of this section as a receipt for Form I-551;”.

In addition, the regulatory text amending 8 CFR 274a.2(b)(1)(vi)(B)(2) inadvertently included the extraneous language, “or statement,” in the sentence, “Presents the Form I-551 by the expiration date of the ‘Temporary I-551’ stamp or, if the stamp or statement has no expiration date, within one year from the issuance date of the arrival portion of the Form I-94 or Form I-94A;”. Note that DHS places only Temporary I-551 “stamps” and not Temporary I-551 “statements” on Forms I-94 when issuing temporary evidence of lawful permanent resident status using Forms I-94.

This document corrects these two errors by removing the extraneous language from the regulatory text.

List of Subjects in 8 CFR Part 274a

Administrative practice and procedure, Aliens, Employment, Penalties, Reporting and recordkeeping requirements.

For the reasons set forth in the preamble, FR Doc E8-29874, beginning on page 76505 in the Federal Register of Wednesday, December 17, 2008, the following corrections are made:

1. On page 76511, in the third column, in § 274a.2, paragraphs (b)(1)(vi)(B)(1) and (2) are corrected to read as follows:

§ 274a.2 Verification of identity and employment authorization.

* * * * *

(b) * * *

(1) * * *

(vi) * * *

(B) * * *

(1) Presents the arrival portion of Form I-94 or Form I-94A containing an unexpired “Temporary I-551” stamp and a photograph of the individual, which is designated for purposes of this section as a receipt for Form I-551; and

(2) Presents the Form I-551 by the expiration date of the “Temporary I-551” stamp or, if the stamp has no expiration date, within one year from the issuance date of the arrival portion of the Form I-94 or Form I-94A; or

* * * * *

Dated: January 13, 2009.
Michael Aytes,
Acting Deputy Director, U.S. Citizenship and Immigration Services.

[FR Doc. E9-909 Filed 1-15-09; 8:45 am]

BILLING CODE 9111-97-P